DEPARTMENT OF THE INTERIOR

National Park Service

[NPS-WASO-NAGPRA-NPS0033741; PPWOCRADN0-PCU00RP14.R50000]

Notice of Inventory Completion: Maryland Center for History and Culture (Formerly Maryland Historical Society), Baltimore, MD

AGENCY: National Park Service, Interior.

ACTION: Notice.

SUMMARY: The Maryland Center for History and Culture has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Maryland Center for History and Culture. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Maryland Center for History and Culture at the address in this notice by May 23, 2022.

FOR FURTHER INFORMATION CONTACT: Vivien Barnett, Curatorial & Collections Assistant, Maryland Center for History and Culture, 610 Park Avenue, Baltimore, MD 21201, telephone (410) 685-3750 Ext. 332, email vbarnett@mdhistory.org.

SUPPLEMENTARY INFORMATION: Notice is here given in accordance with the Native American Graves Protection and Repatriation Act (NAGPRA), 25 U.S.C. 3003, of the completion of an inventory of human remains under the control of the Maryland Center for History and Culture, Baltimore, MD. The human remains were removed from an unknown site in Nebraska.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Maryland Center for History and Culture professional staff in consultation with a representative of the Pawnee Nation of Oklahoma, Elizabeth Blackowl, and archeologists Ronald Thomas and Tyler Bastian.

History and Description of the Remains

At an unknown date, human remains representing, at minimum, three individuals were removed from an unknown site in Nebraska. Subsequently, they entered the archeological collection of the Maryland Academy of Sciences. In 1975, the Maryland Academy of Sciences donated these human remains to the predecessor of the Maryland Center for History and Culture (the Maryland Historical Society) as part of a much larger collection of archeological artifacts. The accession ledger corresponding to these human remains reads, “Donated to Md. Hist. Soc. In box marked `Pawnee Bones from Nebraska.' ” The fragmentary human remains are represented by crania, arm and leg bones, and belong to two adults and one juvenile. No known individuals were identified. No associated funerary objects are present.

Determinations Made by the Maryland Center for History and Culture

Officials of the Maryland Center for History and Culture have determined that:

• Pursuant to 25 U.S.C. 3001(9), the human remains described in this notice represent the physical remains of three individuals of Native American ancestry.

• Pursuant to 25 U.S.C. 3001(2), there is a relationship of shared group identity that can be reasonably traced between the Native American human remains and the Pawnee Nation of Oklahoma.

Additional Requestors and Disposition

Lineal descendants or representatives of any Indian Tribe or Native Hawaiian organization not identified in this notice that wish to request transfer of control of these human remains should submit a written request with information in support of the request to Vivien Barnett, Curatorial & Collections Assistant, Maryland Center for History and Culture, 610 Park Avenue, Baltimore, MD 21201, telephone (410) 685-3750 Ext. 332, email vbarnett@mdhistory.org, by May 23, 2022. After that date, if no additional requestors have come forward, transfer of control of the human remains to the Pawnee Nation of Oklahoma may proceed.

The Maryland Center for History and Culture is responsible for notifying the Pawnee Nation of Oklahoma that this notice has been published.

Dated: April 13, 2022.
Melanie O'Brien,
Manager, National NAGPRA Program.

[FR Doc. 2022-08602 Filed 4-21-22; 8:45 am]

BILLING CODE 4312-52-P